DEPARTMENT OF HEALTH AND HUMAN SERVICES

Centers for Disease Control and Prevention

[60Day-04-04]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: A Survey of Veterinary Clinics to Assess Infection Control Practices and Use of Personal Protective Equipment to Reduce Transmission of Zoonotic Diseases—New—National Center for Infectious Diseases (NCID), Centers for Disease Control and Prevention (CDC).

Recent outbreaks of emerging zoonotic diseases in the United States have highlighted the need to better protect the veterinary community from infectious diseases by educating them about personal protective measures. In particular, during the recent 2003 outbreak of monkeypox in the United States associated with prairie dogs and imported rodents, veterinarians or veterinary staff represented over 25% of confirmed and probable human cases. During the height of this outbreak, health officials were tasked with providing information to the medical and veterinary communities to ensure safety when examining monkeypox-infected patients; a lack of universally accepted infection control and personal protection guidelines within the veterinary community hampered the delivery of effective prevention messages to this vulnerable population.

The proposed survey asks veterinarians about infection control procedures employed in their clinics and the use of personal protective equipment to prevent zoonotic disease transmission.

The proposed study consists of a self-administered, written questionnaire mailed to veterinary clinics in the United States. The American Veterinary Medical Association has volunteered to collaborate on the survey and will provide a list of clinics through their membership mailing list. The study objectives are to describe current knowledge, attitudes, and practices of veterinarians regarding zoonotic disease risks and protection of veterinary clinic staff, and to determine what types of national guidelines on infection control practices in veterinary settings are needed. There is no cost to respondents.

Respondents | Number of respondents | Number of responses/respondent | Average burden/response (in hours) | Total burden (in hours)
Written surveys | 5000 | 1 | 20/60 | 1667
Total |  |  |  | 1667

Dated: November 7, 2003.
Gaylon D. Morris,
M.P.Aff, Acting Executive Secretariat, Centers for Disease Control and Prevention.

[FR Doc. 03-28604 Filed 11-14-03; 8:45 am]

BILLING CODE 4163-18-P